DEPARTMENT OF THE INTERIOR

Bureau of Land Management

[COC-64303; CO-200-1430-EU]

Notice of Intent To Prepare the Wellsville Land Sale and Amend the Royal Gorge Resource Management Plan; and Notice of Realty Action, Colorado

AGENCY: Bureau of Land Management, Interior

ACTION: Notice of intent to prepare an amendment to the Royal Gorge Resource Management Plan and prepare an Environmental Assessment (EA); and Notice of Realty Action, Direct Sale of Public Land in Fremont County, Colorado.

SUMMARY: The Bureau of Land Management (BLM), Royal Gorge Field Office (RGFO) announces the initiation of a Resource Management Plan (RMP) amendment for the Wellsville land sale, pursuant to the BLM planning regulations in 43 CFR part 1600. The amendment would allow disposal of public land in RGFO's retention zone. This would make public land available to resolve an occupancy pursuant to section 203 of the Federal Land Policy and Management Act of 1976 (43 U.S.C. 1713), as amended.

The following land would be sold at no less than the appraised fair market value:

New Mexico Principal Meridian, Colorado

T. 49 N., R. 10 E.,

Section 18: Lot 19, 20, Tram Mining Claim (MS6370)

Section 19: Lot 12, 13, 14, and a parcel in SW¼SW¼ of Lot 11; containing approximately 45 acres. Final acreage and description will be determined following survey.

The parcel will be offered by direct sale, without mineral rights, to William A. Tezak. The land described is hereby segregated from appropriation under the public land laws, including the mining laws, until the land is sold or 2 years from publication of this notice, whichever occurs first. Detailed information concerning this sale, including dates, price, patent reservations, sale procedures, etc. will be available upon request.

DATES: Interested parties may submit written comments to the Field Office Manager at the address listed below. Comments will be accepted until May 11, 2001.

ADDRESSES: If you wish to comment, request additional information or request to be put on the mailing list, you may do so by any of several methods. You may mail or hand deliver your comments or requests to: Field Officer Manager, Bureau of Land Management, Royal Gorge Field Office, 3170 East Main Street, Canon City, Co 81212; 719-269-8500. You may also comment via email to: RGFOWEB@blm.gov. Please submit email comments as an ASCII file avoiding the use of special characters and any form of encryption. Please also include your name and address in your email message.

Comments, including names and addresses of respondents, will be available for public review at the Bureau of Land Management Royal Gorge Field Office, 3170 East Main Street, Canon City, CO during regular business hours. Individual respondents may request confidentially. If you wish to withhold your name and/or address from public review or from disclosure under the Freedom of Information Act, you must state this prominently at the beginning of your written comment. Such requests will be honored to the extent allowed by law. We will not, however, consider anonymous comments. All submissions from organizations or businesses, and from individuals identifying themselves as representatives or officials or organizations or businesses, are available for public inspection in their entirety.

FOR FURTHER INFORMATION CONTACT: Levi D. Deike, Field Office Manager, Lindell Greer, Realty Specialist, or Pete Zwaneveld, Land Use Planner at the address and phone number listed above.

SUPPLEMENTARY INFORMATION: The RMP provides for three land ownership adjustment zones—disposal, retention, and exchange. Of these three zones, sale of public land is limited to those lands identified in the disposal zone. The proposed amendment would make public land located within the retention zone available for direct sale to resolve an occupancy occurring under the mining laws.

A legal notice describing the proposed planning action will be placed in the local newspaper. This notice will also be sent to the Governor of Colorado, Fremont County Commissioners, adjacent landowners, and potentially affected members of the public.

The analysis of this action will be done by an interdisciplinary team. The analysis and plan amendment are scheduled for completion in September 2001. The Proposed BLM Plan Amendment will be published during the EA process and will include a 30 day protest period.

Levi D. Deike,
Field Office Manager.

[FR Doc. 01-7806 Filed 3-28-01; 8:45 am]

BILLING CODE 4310-JB-M